PRESIDIO TRUST

Notice of Receipt of and Availability for Public Comment on an Application for Wireless Telecommunications Facilities Site; The Presidio of San Francisco, California

AGENCY: The Presidio Trust.

ACTION: Public notice.

SUMMARY: This notice announces the Presidio Trust's receipt of and availability for public comment on an application from Nextel Communications (“Nextel”) for a wireless telecommunications facilities site (the “Project”) in The Presidio of San Francisco. The proposed location of the Project is directly above the north entrance of the MacArthur Tunnel and adjacent to Park Boulevard near Amatury Loop, San Francisco, California (the “Project Site”).

The Project involves placing a Yagi cellular antenna and a one-story equipment cabinet at the Project Site. The cellular antenna will be approximately six inches by 30 inches in size. The equipment cabinet will be five feet wide by 13 feet long by six feet tall and will sit on a ten-inch concrete pad. The equipment cabinet will be surrounded by a seven-foot high, black plastic clad chain link fence. Some grading of the area around the Project Site will be required; additional planting to camouflage the equipment cabinet will be performed, altering the historic ground cover and vegetation. Both telecommunication connectivity and electrical power for the Project will be provided through new underground cables connected to existing infrastructure.

Comments: Comments on the proposed Project must be sent to Devon Danz, Presidio Trust, 34 Graham Street, P.O. Box 29052, San Francisco, CA 94129-0052, and be received by August 4, 2000. A copy of Nextel's application is available upon request to the Presidio Trust.

FOR FURTHER INFORMATION CONTACT: Devon Danz, Presidio Trust, 34 Graham Street, P.O. Box 29052, San Francisco, CA 94129-0052. Telephone: 415-561-5300.

Dated: June 26, 2000.
Karen A. Cook,
General Counsel.

[FR Doc. 00-16550 Filed 6-29-00; 8:45 am]

BILLING CODE 4310-4R-P